DEPARTMENT OF TRANSPORTATION

Federal Aviation Administration

Notice of Intent to Rule on Application Impose and Use the Revenue From a Passenger Facility Charge (PFC) at Cherry Capital Airport, Traverse City, MI

AGENCY: Federal Aviation Administration (FAA), DOT.

ACTION: Notice of intent to rule on application.

SUMMARY: The FAA proposes to rule and invites public comment on the application to impose and use the revenue from a PFC at Cherry Capital Airport under the provisions of the Aviation Safety and Capacity Expansion Act of 1990 (Title IX of the Omnibus Budget Reconciliation Act of 1990) (Public Law 101-508) and part 158 of the Federal Aviation Regulations (14 CFR part 158).

DATES: Comments must be received on or before October 1, 2001.

ADDRESSES: Comments on this application may be mailed or delivered in triplicate to the FAA at the following address: Federal Aviation Administration, Detroit Airports District Office, Willow Run Airport, East, 8820 Beck Road Belleville, Michigan 48111. The application may be reviewed in person at this location.

In addition, one copy of any comments submitted to the FAA must be mailed or delivered to Mr. Stephen R. Cassens, Airport Director, Cherry Capital Airport at the following address: Cherry Capital Airport, 1330 Airport Access Road, Traverse City, Michigan 48686.

Air carriers and foreign air carriers may submit copies of written comments previously provided to the Cherry Capital Airport under section 158.23 of part 158.

FOR FURTHER INFORMATION CONTACT: Ms. Arlene B. Draper, Program Manager, Federal Aviation Administration, Detroit Airports District Office, Willow Run Airport, East, 8820 Beck Road, Belleville, Michigan 48111 (734-487-7282). The application may be reviewed in person at this same location.

SUPPLEMENTARY INFORMATION: The FAA proposes to rule and invites public comment on the application to impose and use the revenue from a PFC at Cherry Capital Airport under the provisions of the Aviation Safety and Capacity Expansion Act of 1990 (Title IX of the Omnibus Budget Reconciliation Act of 1990) (Public Law 101-508) and part 158 of the Federal Aviation Regulations (14 CFR part 158).

On August 3, 2001, the FAA determined that the application to impose and use the revenue from a PFC submitted by Cherry Capital Airport was substantially complete within the requirements of section 158.25 of part 158. The FAA will approve or disapprove the application, in whole or in part, not later than November 29, 2001.

The following is a brief overview of the application.

PFC application number: 01-02-C-00-TVC.

Level of the proposed PFC: $4.50.

Proposed charge effective date: January 1, 2017.

Proposed charge expiration date: September 2, 2017.

Total estimated PFC revenue: $420,019.00.

Brief description of proposed projects:

Use Only: Design and Construct New Airline Terminal Building, Ramp for New Terminal, Taxiway to New Terminal.

Impose and Use: Pavement Sensor System, Terminal Expansion Connector Taxiway, High Intensity Runway Lights Runway 10/28, Terminal Apron Lighting, Snow Removal Equipment Procurement, Taxiway “D”, Tie-Down Apron, Taxi Streets, Retention Ponds, Expand Equipment Storage Building, Deer Control Fence, Airfield Signs, Taxiway to West Hangar, Master Plan, Bituminous Overlay Taxiway “A”, “B”, and “J”, Holding Apron Runway End 28, Security Fencing, Power Gates, Screen Wall and Blast Deflector, Expansion of Airline Terminal, Rehabilitate South East General Aviation Apron and Airline Loading Bridge, Friction Testing Vehicle Procurement, Jet Bridge for Regional Carrier, Rest Room Addition in Airline Terminal, Beacon Relocation, Preliminary New Terminal Development. Class or classes of air carriers which the public agency has requested to be required to collect PFCs: Part 135 air taxi/commercial operators filing FAA Form 1800-31.

Any person may inspect the application in person at the FAA office listed above under FOR FURTHER INFORMATION CONTACT.

In addition, any person may, upon request, inspect the application, notice and other documents germane to the application in person at the Cherry Capital Airport, 1330 Airport Access Road, Traverse City, MI 49686.

Issued in Des Plaines, Illinois, on August 17, 2001.
Gary E. Nielsen,
Acting Manager, Planning and Programming Branch, Airports Division, Great Lakes Region.

[FR Doc. 01-22045 Filed 8-30-01; 8:45 am]

BILLING CODE 4910-13-M